DEPARTMENT OF LABOR

Employment and Training Administration

[TA-W-86,004]

Cooper Power Systems, Power Delivery Division, an Eaton Corporation Company, Formerly Cooper Industries Including On-Site Leased Workers From Manpower, TEC Staffing, Infotree Services and Advantage Resourcing, Fayetteville, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on July 29, 2015, applicable to workers and former workers of Cooper Power Systems, Power Delivery Division, an Eaton Corporation Company, formerly Cooper Industries, including on-site leased workers from Manpower, Tec Staffing, Infotree Services, Fayetteville, Arkansas. The Department's Notice of determination was published in the Federal Register on September 22, 2015 (80 FR 57219).

At the request of State of Arkansas, the Department reviewed the certification for workers of the subject firm. Workers from Advantage Resourcing were employed on-site at the Fayetteville, Arkansas location of the subject firm. The Department has determined that these workers were sufficiently under the control of the subject firm to be considered leased workers.

Based on these findings, the Department is amending this certification to include workers leased from Advantage Resourcing working on-site at the Fayetteville, Arkansas location of Cooper Power Systems.

The amended notice applicable to TA-W-86,004 is hereby issued as follows:

All workers of Cooper Power Systems, Power Delivery Division, an Eaton Corporation Company, formerly Cooper Industries, including on-site leased workers from Manpower, Tec Staffing, Infotree Services, and Advantage Resourcing, Fayetteville, Arkansas, who became totally or partially separated from employment on or after May 8, 2014, through July 29, 2017, and all workers in the group threatened with total or partial separation from employment on the date of certification through two years from the date of certification, are eligible to apply for adjustment assistance under Chapter 2 of Title II of the Trade Act of 1974, as amended.

Signed in Washington, DC, this 20th day of May, 2016.
Del Min Amy Chen,
Certifying Officer, Office of Trade Adjustment Assistance.

[FR Doc. 2016-18407 Filed 8-3-16; 8:45 am]

BILLING CODE P